NATIONAL ARCHIVES AND RECORDS ADMINISTRATION

36 CFR Part 1253

[FDMS No. NARA-14-0001; Agency No. NARA-2014-049]

RIN 3095-AB82

Location of NARA Facilities and Hours of Use

AGENCY: National Archives and Records Administration (NARA).

ACTION: Direct final rule.

SUMMARY: The National Archives and Records Administration (NARA) is changing its list of facilities to include the new George W. Bush Presidential Library and to update addresses and contact numbers for records centers and archival research rooms outside of the Washington, DC area.

DATES: This rule is effective September 22, 2014, without further action, unless NARA receives adverse comments by September 10, 2014. If NARA receives an adverse comment, it will publish a timely withdrawal of the rule in the Federal Register.

ADDRESSES: You may submit comments, identified by RIN 3095-AB82, by any of the following methods:

Federal eRulemaking Portal: http://www.regulations.gov.

Email: regulation_comments@nara.gov.

Mail: (For paper, disk, or CD-ROM submissions) Regulations Comments Desk, Strategy Division (SP); Suite 4100; National and Archives Records Administration; 8601 Adelphi Road; College Park, MD 20740-6001.

Hand delivery or courier: Deliver comments to 8601 Adelphi Road; College Park, MD.

Instructions: All submissions received must include the agency name and Regulatory Information Number (RIN) for this rulemaking (RIN 3095-AB82). All comments received may be published without changes, including any personal information provided.

FOR FURTHER INFORMATION CONTACT: For information or questions on this regulatory action, contact Carl Rauscher by telephone at 301-837-0320, by email at regulation_comments@nara.gov, or by mail to Carl Rauscher, Strategy Division (SP), Suite 4100; National Archives and Records Administration; 8601 Adelphi Road; College Park, MD 20740-6001.

SUPPLEMENTARY INFORMATION: NARA is updating addresses and contact information for Presidential libraries, records centers, and archival research facilities outside of the Washington, DC area to reflect a newly-opened Presidential library, an agency-wide reorganization, and facility changes. The proposed changes reflect current contact information and include Web site addresses for additional information. These changes will affect all customers who do business with NARA.

This rule is effective upon publication for good cause as permitted by the Administrative Procedure Act (5 U.S.C. 553(d)(3)). NARA believes that a public comment period is unnecessary as this rule makes only minor changes to the list of current NARA's facilities and their contact information. This rule also does not have any Federalism implications.

This direct final rule is not a significant regulatory action for the purposes of E.O. 12866 and has been reviewed by the Office of Management and Budget (OMB). The rule is also not a major rule as defined in 5 U.S.C. Chapter 8, Congressional Review of Agency Rulemaking. As required by the Regulatory Flexibility Act, we certify that this rule will not have a significant impact on a substantial number of small entities because it makes updates only to the list of current NARA facilities and their contact information.

List of Subjects in 36 CFR Part 1253

Archives and records, Federal buildings and facilities, Presidential records.

For the reasons stated in the preamble, NARA amends Title 36 of the Code of Federal Regulations, part 1253, as follows:

PART 1253—LOCATION OF NARA FACILITIES AND HOURS OF USE

1. The authority citation for part 1253 continues to read as follows:

Authority: 44 U.S.C. 2104(a).

§ 1253.3 [Amended]

2. Revise § 1253.3 to read as follows:

§ 1253.3 Presidential Libraries.

Hours for the Presidential libraries' research rooms are posted at http://www.archives.gov. The Presidential library museums are open every day except Thanksgiving, December 25, and January 1. For more specific information about museum hours, please contact the libraries directly or visit the NARA Web site at http://www.archives.gov. Contact information for each library is as follows:

(a) Herbert Hoover Library is located at 210 Parkside Drive, West Branch, IA 52358 (mailing address: P.O. Box 488, West Branch, IA 52358). The phone number is 319-643-5301 and the fax number is 319-643-6045. The email address is hoover.library@nara.gov.

(b) Franklin D. Roosevelt Library is located at 4079 Albany Post Road, Hyde Park, NY 12538. The phone number is 800-FDR-VISIT or 845-486-7770 and the fax number is 845-486-1147. The email address is roosevelt.library@nara.gov.

(c) Harry S. Truman Library is located at 500 W. U.S. Hwy. 24, Independence, MO 64050. The phone number is 800-833-1225 or 816-268-8200 and the fax number is 816-268-8295. The email address is truman.library@nara.gov.

(d) Dwight D. Eisenhower Library is located at 200 SE. 4th Street, Abilene, KS 67410. The phone number is 877-RING-IKE or 785-263-6700 and the fax number is 785-263-6715. The email address is eisenhower.library@nara.gov.

(e) John Fitzgerald Kennedy Library is located at Columbia Point, Boston, MA 02125. The phone number is 866-JFK-1960 or 617-514-1600 and the fax number is 617-514-1652. The email address is kennedy.library@nara.gov.

(f) Lyndon Baines Johnson Library and Museum is located at 2313 Red River Street, Austin, TX 78705. The phone number is 512-721-0200 and the fax number is 512-721-0170. The email address is johnson.library@nara.gov.

(g) Richard Nixon Library, California is located at 18001 Yorba Linda Boulevard, Yorba Linda, CA 92886. The phone number is 714-983-9120 and the fax number is 714-983-9111. The email address is nixon@nara.gov. Richard Nixon Library, Maryland is located at 8601 Adelphi Road, College Park, MD 20740. The phone number is 301-837-3290 and the fax number is 301-837-3202. The email address is nixon@nara.gov.

(h) Gerald R. Ford Library is located at 1000 Beal Avenue, Ann Arbor, MI 48109. The phone number is 734-205-0555 and the fax number is 734-205-0571. The email address is ford.library@nara.gov. Gerald R. Ford Museum is located at 303 Pearl Street NW., Grand Rapids, MI 49504. The phone number is 616-254-0400 and the fax number is 616-254-0386. The email address is ford.museum@nara.gov.

(i) Jimmy Carter Library is located at 441 Freedom Parkway, Atlanta, GA 30307. The phone number is 404-865-7100 and the fax number is 404-865-7102. The email address is carter.library@nara.gov.

(j) Ronald Reagan Library is located at 40 Presidential Drive, Simi Valley, CA 93065. The phone number is 800-410-8354 or 805-577-4000 and the fax number is 805-577-4074. The email address is reagan.library@nara.gov.

(k) George Bush Library is located at 1000 George Bush Drive West, College Station, TX 77845. The phone number is 979-691-4000 and the fax number is 979-691-4050. The email address is bush.library@nara.gov.

(l) William J. Clinton Library is located at 1200 President Clinton Avenue, Little Rock, AR 72201. The phone number is 501-374-4242 and the fax number is 501-244-2883. The email address is clinton.library@nara.gov.

(m) George W. Bush Library is located at 2943 SMU Boulevard, Dallas, TX 75205. The phone number is 214-346-1650 and the fax number is 214-346-1699. The email address is gwbush.library@nara.gov.

§ 1253.4 [Removed]

3. Remove § 1253.4.

§ 1253.5 [Removed]

4. Remove § 1253.5.

§ 1253.6 [Redesignated as § 1253.4 and Amended]

5. Redesignate § 1253.6 as § 1253.4 and revise newly designated § 1253.4 to read as follows:

§ 1253.4 Federal Records Centers.

Hours for federal records centers are posted at http://www.archives.gov/frc/. Contact information for each center is as follows:

(a) Atlanta Federal Records Center is located at 4712 Southpark Blvd., Ellenwood, GA 30294. The telephone number is 404-736-2820.

(b) Boston Federal Records Center is located at the Frederick C. Murphy Federal Center, 380 Trapelo Road, Waltham, MA 02452. The telephone number is 781-663-0130.

(c) Chicago Federal Records Center is located at 7358 Pulaski Road, Chicago, IL 60629. The telephone number is 773-948-9000.

(d) Dayton Federal Records Center is located at 3150 Springboro Road, Dayton, OH 45439. The telephone number is 937-425-0600.

(e) Denver Federal Records Center is located at 17101 Huron Street, Broomfield, CO 80023. The telephone number is 303-604-4760.

(f) Fort Worth Federal Records Center is located at 1400 John Burgess Drive, Fort Worth, Texas 76140. The telephone number is 817-551-2000.

(g) Kansas City Federal Records Center is located at 8600 NE Underground Drive, Pillar 300-G, Kansas City, MO 64161. The telephone number is 816-994-1700.

(h) Kingsridge Federal Records Center is located at 8801 Kingsridge Drive, Dayton, OH 45458. The telephone number is 937-425-0690.

(i) Lee's Summit Federal Records Center is located at 200 Space Center Drive, Lee's Summit, MO 64064. The telephone number is 816-268-8100.

(j) Lenexa Federal Records Center is located at 17501 W. 98th Street, Suite 3150, Lenexa, KS 66219. The telephone number is 913-825-7800.

(k) National Personnel Records Center—Military Personnel Records is located at 1 Archives Drive, St. Louis, MO 63138. The telephone number is 314-801-0582.

(l) National Personnel Records Center—Civilian Personnel Records is located at 1411 Boulder Boulevard, Valmeyer, IL 62295. The telephone number is 618-935-3005.

(m) Philadelphia Federal Records Center is located at 14700 Townsend Road, Philadelphia, PA 19154. The telephone number is 215-305-2000.

(n) Pittsfield Federal Records Center is located at 10 Conte Drive, Pittsfield, MA 01201. The telephone number is 413-236-3603.

(o) Riverside Federal Records Center is located at 23123 Cajalco Road, Perris, CA 92570. The telephone number is 951-956-2000.

(p) San Francisco Federal Records Center is located at Leo J. Ryan Building, 1000 Commodore Drive, San Bruno, CA 94066. The telephone number is 650-238-3500.

(q) Seattle Federal Records Center is located at 6125 Sand Point Way, NE., Seattle, WA 98115. The telephone number is 206-336-5115.

(r) Washington National Records Center is located at 4205 Suitland Road, Suitland, MD 20746. The phone number is 301-778-1600.

§ 1253.7 [Redesignated as § 1253.5 and Amended]

6. Redesignate § 1253.7 as § 1253.5 and revise newly designated § 1253.5 to read as follows:

§ 1253.5 Archival Research Rooms.

Hours for archival research rooms outside of the Washington, DC area, including extended hours for microfilm research only, are posted at http://www.archives.gov. Contact information for each archival research facility is as follows:

(a) The National Archives at Atlanta is located at 5780 Jonesboro Road, Morrow, GA 30260. The telephone number is 770-968-2458.

(b) The National Archives at Boston is located in the Frederick C. Murphy Federal Center, 380 Trapelo Road, Waltham, MA 02452-6399. The telephone number is 781-663-0121.

(c) The National Archives at Chicago is located at 7358 South Pulaski Road, Chicago, IL 60629-5898. The telephone number is 773-948-9009.

(d) The National Archives at Denver is located at 17101 Huron Street, Broomfield, CO 80023-8909. The telephone number is 303-604-4749.

(e) The National Archives at Fort Worth is located at 1400 John Burgess Drive, Fort Worth, Texas 76140. The telephone number is 817-551-2000.

(f) The National Archives at Kansas City is located at 400 West Pershing Road, Kansas City, MO 64108. The telephone number is 816-268-8017.

(g) The National Archives at New York City is located in the Alexander Hamilton U.S. Customs House, 1 Bowling Green, New York, NY 10004-1415. The telephone number is 212-401-1623.

(h) The National Archives at Philadelphia is located at 14700 Townsend Road, Philadelphia, PA 19154. The telephone number is 215-305-2000.

(i) The National Archives at Riverside is located at 23123 Cajalco Road, Perris, CA 92570. The telephone number is 951-956-2000.

(j) The National Archives at San Francisco is located in the Leo J. Ryan Building, 1000 Commodore Drive, San Bruno, CA 94066-2350. The telephone number is 650-238-3478.

(k) The National Archives at Seattle is located at 6125 Sand Point Way, NE., Seattle, WA 98115-7999. The telephone number is 206-336-5141.

(l) The National Archives at St. Louis is located at 1 Archives Drive, St. Louis, MO 63138. The telephone number is 314-801-0850.

§ 1253.8 [Redesignated as § 1253.6]

7. Redesignate § 1253.8 as § 1253.6.

§ 1253.9 [Redesignated as § 1253.7 and Amended]

8. Redesignate § 1253.9 as § 1253.7 and in the newly designated paragraph § 1253.7(c), remove “(with the exception of the Lyndon Baines Johnson Library which is only closed December 25).”

§ 1253.10 [Redesignated as § 1253.8 and Amended]

9. Redesignate § 1253.10 as § 1253.8 and in the newly designated paragraph § 1253.8(a), remove “§ 1253.10(c)” and add in its place “§ 1253.8(c),” and remove “§ 1253.10(d)” and add in its place “§ 1253.8(d).”

Dated: August 11, 2014.
David S. Ferriero,
Archivist of the United States.

[FR Doc. 2014-19533 Filed 8-20-14; 8:45 am]

BILLING CODE 7515-01-P